COMMISSION ON CIVIL RIGHTS

Correction: Notice of Public Meeting of the Connecticut Advisory Committee

AGENCY: U.S. Commission on Civil Rights.

ACTION: Correction: Announcement of meeting.

SUMMARY: The Commission on Civil Rights published a document November 20, 2018, announcing an upcoming Connecticut Advisory Committee meeting. The document contained an incorrect date of the meeting.

FOR FURTHER INFORMATION CONTACT: Barbara de La Viez, DFO, at ero@usccr.gov or 202-376-7533.

CORRECTION: In the Federal Register of November 20, 2018, in FR Doc. 2018-25258, on page 58527 in the second columns, delete “December 7, 2018” in the DATES Replace the date of the meeting to read December 12, 2018.

Dated: November 20, 2018.
David Mussatt,
Supervisory Chief, Regional Programs Unit.

[FR Doc. 2018-25651 Filed 11-23-18; 8:45 am]

BILLING CODE P